DEPARTMENT OF JUSTICE

Antitrust Division

Notice Pursuant to the National Cooperative Research and Production Act of 1993—MLCommons Association

Notice is hereby given that, on December 2, 2024, pursuant to section 6(a) of the National Cooperative Research and Production Act of 1993, 15 U.S.C. 4301 et seq. (“the Act”), MLCommons Association (“MLCommons”) filed written notifications simultaneously with the Attorney General and the Federal Trade Commission disclosing changes in its membership. The notifications were filed for the purpose of extending the Act's provisions limiting the recovery of antitrust plaintiffs to actual damages under specified circumstances. Specifically, Lambda, San Jose, CA; Optivide, Inc., Dover, DE; MangoBoost Inc, Bellevue, WA; HP Inc., Palo Alto, CA; Task Aware AI, Mountain View, CA; Huawei Technologies Co., Ltd., Shenzhen, PEOPLE'S REPUBLIC OF CHINA; GPTshop.ai UG (limited), Ebern, FEDERAL REPUBLIC OF GERMANY; Decompute, Saratoga, CA; FlexAI, SAS, Paris, FRENCH REPUBLIC; NetApp, Inc., San Jose, CA; IEIT SYSTEMS Co., Ltd., Shandong, PEOPLE'S REPUBLIC OF CHINA, Ingrasys Technology, Inc., Taoyuan City, REPUBLIC OF CHINA (TAIWAN); Saptadip Saha (individual member), Bishalgarh, REPUBLIC OF INDIA; Ethan Shama (individual member), Kingston, CANADA; Shaksam Consul (individual member), Mountain View, CA; Yaling Chen (individual member), Tainan City, REPUBLIC OF CHINA (TAIWAN); Santosh Ganji (individual member), College Station, TX; Ching-Ting Huang (individual member), Tainan City, REPUBLIC OF CHINA (TAIWAN); Abhinav Venigalla (individual member), San Francisco, CA; Dr. Piero Coronica (individual member), Garching bei Munchen, FEDERAL REPUBLIC OF GERMANY; Claire Verity Hargrove (individual member), Los Angeles CA; Anusha Devulapally (individual member), University Park, PA; Mahmood Naderan-Tahan (individual member), Delft, KINGDOM OF THE NETHERLANDS; Abhinaba Chakraborty (individual member), Ghent, KINGDOM OF BELGIUM; Ahmed Khaled (individual member), Princeton, NJ; Amit Gupta (individual member), San Antonio, TX; Soumya Batra (individual member), New Delhi, REPUBLIC OF INDIA; Tamara Lehman (individual member), Boulder, CO; Amrita Bhattacharjee (individual member), Tempe, AZ; Soojung (Sue) Ryu (individual member), Gwanak-gu, REPUBLIC OF KOREA; Ji-Hoon Oh (individual member), Eunpyeong-gu, REPUBLIC OF KOREA; and Tianhao Li (individual member), Durham, NC, have been added as parties to this venture.

Also, Rebellions Inc., Gyeonggi-do, REPUBLIC OF KOREA; Inspur, Beijing, PEOPLE'S REPUBLIC OF CHINA; DEEPX Co., Inc., Gyeonggi-do, REPUBLIC OF KOREA; Femtosense, Inc., Palo Alto, CA; STMicroelectronics International NV, Geneva, SWISS CONFEDERATION; xFusion Digital Technologies, Co., Ltd., Zhenghou, PEOPLE'S REPUBLIC OF CHINA; SiWave Semiconductor Corporation, Vancouver, CANADA; Chip-hop Ltd., Guangzhou, PEOPLE'S REPUBLIC OF CHINA; and Foxconn Industrial internet Co., Ltd., Shenzhen, PEOPLE'S REPUBLIC OF CHINA, have withdrawn as parties to this venture.

No other changes have been made in either the membership or planned activity of the group research project. Membership in this group research project remains open and MLCommons intends to file additional written notifications disclosing all changes in membership.

On September 15, 2020, MLCommons filed its original notification pursuant to section 6(a) of the Act. The Department of Justice published a notice in the Federal Register pursuant to section 6(b) of the Act on September 29, 2020 (85 FR 61032).

The last notification was filed with the Department on June 13, 2024. A notice was published in the Federal Register pursuant to section 6(b) of the Act on September 12, 2024 (89 FR 74290).

Suzanne Morris,
Deputy Director Civil Enforcement Operations, Antitrust Division.

[FR Doc. 2025-03659 Filed 3-6-25; 8:45 am]

BILLING CODE 4410-11-P